DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR part 107, subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before May 1, 2003.

ADDRESS COMMENTS TO: Records Center, Research and Special Programs Administration, U.S. Department of Transportation, Washington, DC 20590.

Comments should refer to the application number and be submitted in triplicate. If confirmation of receipt of comments is desired, include a self-addressed stamped postcard showing the exemption application number.

FOR FURTHER INFORMATION: Copies of the applications (See Docket Number) are available for inspection at the new Docket Management Facility, PL-401, at the U.S. Department of Transportation, Nassif Building, 400 7th Street, SW., Washington, DC 20590 or at http://dms.dot.gov.

This notice of receipt of applications for new exemptions is published in accordance with part 107 of the Federal hazardous materials transportation law (49 U.S.C. 5117(b); 49 CFR 1.53(b)).

Issued in Washington, DC on March 24, 2003.
R. Ryan Posten,
Exemptions Program Officer, Office of Hazardous Materials Exemptions and Approvals.

New Exemptions
Application No. | Docket No. | Applicant | Regulation(s) affected | Nature of exemption thereof
33208-N |  | Provensis Limited of South Harefield Middlesex, UK | 49 CFR 171.11(d)(14), 171.11(d)(7), 171.12(b)(17), 173.306(a)(3)(v), part 174, part 177 | To authorize the transportation in commerce of aerosol containers that have not been subjected to the hot water bath test for use in transporting non-flammable compressed gas. (Modes 1, 2, 3, 4.)
13209-N |  | Corning, Inc., Corning, NY | 49 CFR 173.21(e), 173.25(a)(1), 180.205(g) | To authorize the transportation in commerce of sodium borophydridge, Division 4.3 with various aqueous solutions in specially designed packaging. (Modes 1, 4.)
13211-N |  | Avecia Inc., Wilmington, DE | 49 CFR 172.101, SP N8 | To authorize the transportation in commerce of a non-bulk UN standard alternative packaging for use in transporting nitroglycerin solution in alcohol. (Modes 1, 3, 5.)
13212-N |  | Southern California Edison, San Clemente, CA | 49 CFR 173.427, 173.465(c), 173.465(d) | To authorize the transportation in commerce of three large reactor coolant pumps containing Class 7 radioactive materials and surface contaminated objects. (Mode 1.)
13213-N |  | Washington State Ferries, Seattle, WA | 49 CFR 172.101(10a) | To authorize the transportation in commerce of limited quantities of Class 3, Class 9 and Division 2.1 hazardous materials being stowed on and below deck on passenger ferry vessels transporting motor vehicles, such as recreational vehicles, with attached cylinders of liquefied petroleum gas. (Mode 5.)

[FR Doc. 03-7710 Filed 3-31-03; 8:45 am]

BILLING CODE 4910-60-M